DEPARTMENT OF DEFENSE

Department of the Army; Corps of Engineers

Public Hearing and Notice of Availability for the Draft Environmental Impact Statement for the Matagorda Ship Channel Improvement Project, Calhoun County and Matagorda County, TX

AGENCY: Department of the Army, U.S. Army Corps of Engineers, DoD.

ACTION: Extension of comment period and rescheduling of Public Hearing.

SUMMARY: The Notice of Availability for the Draft Environmental Impact Statement (DEIS) published in the Federal Register on Friday, May 18, 2007 (72 FR 28032), required comments be submitted on or before July 2, 2007. An editorial correction of the Notice document was published in the Federal Register on Thursday, June 2, 2007 (72 FR 31660). The comment period has been extended to September 4, 2007. Additionally, the June 5, 2007, Public Hearing on the proposed project has been rescheduled to August 9, 2007, at the Bauer Community Center, 2300 North Highway 35, Port Lavaca, TX 77979. Poster presentations will be available for viewing and project team members will be present to discuss the DEIS at a Workshop that will precede the Public Hearing. The Workshop will be conducted from 5 p.m. to 6:45 p.m. and the formal Public Hearing will comment at 7 p.m.

FOR FURTHER INFORMATION CONTACT: Ms. Denise Sloan, Regulatory Project Manager, U.S. Army Corps of Engineers, Galveston District, P.O. Box 1229, Galveston, TX 77553-1229, (409) 766-3962.

Brenda S. Bowen,
Army Federal Register Liaison Officer.

[FR Doc. 07-3536 Filed 7-19-07; 8:45 am]

BILLING CODE 3710-52-M